FEDERAL COMMUNICATIONS COMMISSION

[FR ID 236862]

Deletion of Item From August 7, 2024 Open Meeting

August 1, 2024.

The following item has been deleted from the list of items scheduled for consideration at the Wednesday, August 7, 2024, Open Meeting. Item No. 5 was released by the Commission on August 1, 2024. The item was previously listed in the Commission's Sunshine Notice on Wednesday, July 31, 2024.

Item No. | Bureau | Subject
5 | ENFORCEMENT | Title: Enforcement Bureau Action. Summary: The Commission will consider an enforcement action.

Federal Communications Commission.
Katura Jackson,
Federal Register Liaison Officer.

[FR Doc. 2024-17429 Filed 8-6-24; 8:45 am]

BILLING CODE 6712-01-P